POSTAL SERVICE

Board of Governors; Sunshine Act Meeting

DATES AND TIMES: Thursday, November 14, 2013, at 10:00 a.m.; and Friday, November 15, at 8:00 a.m. and 10:00 a.m.

PLACE: Washington, DC, at U.S. Postal Service Headquarters, 475 L'Enfant Plaza, SW., in the Benjamin Franklin Room.

STATUS: Thursday, November 14, at 10:00 a.m.—Closed; Friday, November 15, at 8:00 a.m.—Open; and at 10:00 a.m.—Closed

MATTERS TO BE CONSIDERED:

Thursday, November 14, at 10:00 a.m. (Closed)

1. Strategic Issues.

2. Financial Matters.

3. Pricing.

4. Personnel Matters and Compensation Issues.

5. Governors' Executive Session—Discussion of prior agenda items and Board Governance.

Friday, November 15, at 8:00 a.m. (Open)

1. Remarks of the Chairman of the Board.

2. Remarks of the Postmaster General and CEO.

3. Approval of Minutes of Previous Meetings.

4. Committee Reports.

5. FY2013 10K and Financial Statements.

6. FY2014 IFP and Financing Resolution.

7. FY2015 Appropriations Request.

8. Quarterly Service Performance Report.

9. Approval of Annual Report and Comprehensive Statement.

10. Tentative Agenda for the December 10, 2013, meeting in Washington, DC

11. Election of Chairman and Vice Chairman of the Board of Governors.

Friday, November 15, at 10:00 a.m. (Closed—If Needed)

1. Continuation of Thursday's closed session agenda.

CONTACT PERSON FOR MORE INFORMATION: Julie S. Moore, Secretary of the Board, U.S. Postal Service, 475 L'Enfant Plaza, SW., Washington, DC 20260-1000. Telephone: (202) 268-4800.

Julie S. Moore,
Secretary.

[FR Doc. 2013-26929 Filed 11-6-13; 11:15 am]

BILLING CODE 7710-12-P